DEPARTMENT OF DEFENSE

Office of the Secretary

[DOD-2006-OS-0083]

Notice of Intent To Grant a Partially Exclusive License; Visa USA, Inc.

AGENCY: Department of Defense.

ACTION: Notice.

SUMMARY: The National Security Agency hereby gives notice of its intent to grant Visa USA, Inc. a revocable, nonassignable, partially exclusive, license to practice the following Government-Owned invention as described in U.S. Patent No. 6,947,978 entitled: “Method for Geolocating Logical Network Addresses”, issued September 20, 2005, and Patent Application Serial Number 11/145,237 entitled: “Method to Detecting Intermediary Communications Device,” filed May 24, 2005, both in the field of credit card transactions over the Internet. The above-mentioned invention is assigned to the United States Government as represented by the National Security Agency.

DATES: Anyone wishing to object to the grant of this license has fifteen (15) days from the date of this notice to file written objections along with any supporting evidence, if any.

ADDRESSES: Written objections are to be filed with the Domestic Technology Transfer Program, 9800 Savage Rd., Ste. 6541, Fort George G. Meade, Maryland 20755-6541.

FOR FURTHER INFORMATION CONTACT: Pamela L. Porter, Director, Domestic Technology Transfer Program, 9800 Savage Road, Suite 6541, Fort George G. Meade, Maryland 20755-6541, telephone (443) 479-0310.

Dated: May 9, 2006.
L.M. Bynum,
OSD Federal Register Liaison Officer, DoD.

[FR Doc. 06-4531 Filed 5-15-06; 8:45 am]

BILLING CODE 5001-06-M